DEPARTMENT OF THE INTERIOR

Bureau of Land Management

[ES-020-1310-00]

AGENCY: Bureau of Land Management (BLM), Interior.

ACTION: Notice of Intent for Planning Analyses.

SUMMARY: The Jackson Field Office, Eastern States, will prepare Planning Analyses (PA) for consideration of leasing six scattered tracts of Federal mineral estate for oil and gas exploration and development. The PAs will be prepared in concert with Environmental Analyses (EA).

This notice is issued pursuant to Title 40 Code of Federal Regulations (CFR) 1501.7 and Title 43 CFR 1610.2(c). The planning effort will follow the procedures set forth in 43 CFR Part 1600.

The public is invited to participate in this planning process, beginning with the identification of planning issues and criteria.

DATES: Comments relating to the identification of planning issues and criteria will be accepted for thirty days from the date of this publication.

ADDRESSES: Send comments to Bureau of Land Management, Jackson Field Office, 411 Briarwood Drive, Suite 404, Jackson, Mississippi 39206.

FOR FURTHER INFORMATION CONTACT: Quazi T. Islam, Physical Scientist, Jackson Field Office, (601) 977-5400.

SUPPLEMENTARY INFORMATION: The BLM has responsibility to consider applications to lease Federal mineral estate for oil and gas exploration and development. An interdisciplinary team will be used in the preparation of the PA/EAs. Preliminary issues, subject to change as a result of public input, are (1) potential impacts of oil and gas exploration and development on the surface resources and (2) consideration of restrictions on lease rights to protect surface resources.

Due to the scattered nature of the six tracts proposed for leasing, a separate analysis will be prepared for each tract.

Tract locations, along with acreages, are listed below.

Alabama, Tuscaloosa County, Huntsville Meridian

T 18 S, R 8 W, Section 7; T 18 S, R 9 W, Sections 11 and 12; 200.94 acres.

Louisiana, Concordia Parish, 5th Principal Meridian

T 5 N, R 9 E, Sections 66 and 67; 112.80 acres.

Mississippi, Lamar County, St. Stephens Meridian

T 2 N, R 16 W, Sections 11, 12, 13, and 14; 1,470.0 acres.

Mississippi, Covington County, St. Stephens Meridian

T 8 N, R 14 W, Section 4; 40.0 acres.

Mississippi, Covington County, St. Stephens Meridian

T 6 N, R 54 W, Sections 8 and 17; 70.0 acres.

Virginia, Dickenson County

Tract No. 550G, Parcel A-3. 200.61 acres.

Due to the limited scope of this PA/EA process, public meetings are not scheduled.

Bruce E. Dawson,
Field Manager, Jackson Field Office.

[FR Doc. 00-1605 Filed 1-21-00; 8:45 am]

BILLING CODE 4310-GS-M